SMALL BUSINESS ADMINISTRATION

[Disaster Declaration #13105 and #13106]

New Mexico Disaster #NM-00025

AGENCY: U.S. Small Business Administration.

ACTION: Amendment 1.

SUMMARY: This is an amendment of the Administrative declaration of a disaster for the State of NEW MEXICO, dated 07/09/2012.

Incident: Little Bear Fire.

Incident Period: 06/04/2012 through 07/30/2012.

Effective Date: 08/02/2012.

Physical Loan Application Deadline Date: 09/07/2012.

Economic Injury (EIDL) Loan Application Deadline Date: 04/09/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Administrator's declaration for the State of New Mexico, dated 07/09/2012 is hereby amended to establish the incident period for this disaster as beginning 06/04/2012 and continuing through 07/30/2012.

All other information in the original declaration remains unchanged.

(Catalog of Federal Domestic Assistance Numbers 59002 and 59008)

Dated: August 2, 2012.
Karen G. Mills,
Administrator.

[FR Doc. 2012-19671 Filed 8-9-12; 8:45 am]

BILLING CODE 8025-01-P